DEPARTMENT OF COMMERCE

International Trade Administration

[A-821-817]

Silicon Metal From the Russian Federation: Final Results of the Expedited Fourth Sunset Review of the Antidumping Duty Order

AGENCY: Enforcement and Compliance, International Trade Administration, Department of Commerce.

SUMMARY: The U.S. Department of Commerce (Commerce) finds that revocation of the antidumping duty (AD) order on silicon metal from the Russian Federation (Russia) would be likely to lead to continuation or recurrence of dumping, at the levels indicated in the “Final Results of Sunset Review” section of this notice.

DATES: Applicable August 29, 2025.

FOR FURTHER INFORMATION CONTACT: Kamila Khamidova, Trade Agreements Policy and Negotiations, Enforcement and Compliance, International Trade Administration, U.S. Department of Commerce, 1401 Constitution Avenue NW, Washington, DC 20230; telephone: 202-482-4303.

SUPPLEMENTARY INFORMATION:

Background

On March 26, 2003, Commerce published in the Federal Register the AD order on silicon metal from the Russian Federation (Russia).¹ On May 1, 2025, Commerce published the notice of initiation of this fourth sunset review of the Order, pursuant to section 751(c) of the Tariff Act of 1930, as amended (the Act).² On May 7, 2025, Commerce received a timely and complete notice of intent to participate in the sunset review from the Domestic Interested Parties ³ within the deadline specified in the 19 CFR 351.218(d)(1)(i).⁴ The Domestic Interested Parties claimed the interested party status within the meaning of section 771(9)(C) of the Act as producers of silicon metal.⁵ On May 22, 2025, Commerce notified the U.S. International Trade Commission (ITC) that it had received a notice of intent to participate from the Domestic Interested Parties.⁶

¹ See Antidumping Duty Order: Silicon Metal from Russia, 68 FR 14578 (March 26, 2003), amended in Silicon Metal from the Russian Federation; Notice of Amended Final Determination Pursuant to Court Decision, 71 FR 8277 (February 16, 2006) (Order).

² See Initiation of Five-Year (Sunset) Reviews, 90 FR 18642 (May 1, 2025).

³ The Domestic Interested Parties are Ferroglobe USA, Inc. and Mississippi Silicon LLC.

⁴ See Domestic Interested Parties' Letter, “Silicon Metal from the Russian Federation: Notice of Intent to Participate in Sunset Review,” dated May 7, 2025.

⁵ Id. at 3.

⁶ See Commerce's Letter, “Sunset Reviews Initiated on February 3, 2025,” dated May 22, 2025.

On June 2, 2025, pursuant to 19 CFR 351.218(d)(3)(i), Domestic Interested Parties filed a timely and adequate substantive response.⁷ Commerce did not receive a substantive response from any respondent interested party. On June 20, 2025, Commerce notified the ITC that it did not receive substantive response from any respondent interested parties.⁸ As a result, pursuant to section 751(c)(3)(B) of the Act and 19 CFR 351.218(e)(1)(ii)(C)(2), Commerce is conducting an expedited (120-day) sunset review of the Order.

⁷ See Domestic Interested Parties' Letter, “Silicon Metal from the Russian Federation: Substantive Response to Notice of Initiation,” dated June 2, 2025.

⁸ See Commerce's Letter, “Sunset Reviews Initiated on May 1, 2025,” dated June 20, 2025.

Scope of the Order

The product covered by these Order is silicon metal from the Russian Federation. For the full description of the scope of the Order, see the Issues and Decisions Memorandum.⁹

⁹ See Memorandum, “Issues and Decision Memorandum for the Final Results of the Expedited Fourth Sunset Reviews of the Antidumping Duty Order on Silicon Metal from the Russian Federation,” dated concurrently with, and hereby adopted by, this notice.

Analysis of Comments Received

A complete discussion of all issues raised in this sunset review, including the likelihood of continuation or recurrence of dumping in the event of revocation of the Order and the magnitude of the margins likely to prevail if the Order were to be revoked, is provided in the accompanying Issues and Decision Memorandum.¹⁰ A list of the topics discussed in the Issues and Decision Memorandum is attached in the Appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be directly accessed at https://access.trade.gov/public/FRNoticesListLayout.aspx.

¹⁰ Id.

Final Results of Sunset Review

Pursuant to sections 751(c)(1), 752(c)(1) and (3) of the Act, Commerce determines that revocation of the Order would be likely to lead to continuation or recurrence of dumping, and that the magnitude of the dumping margins likely to prevail would be weighted-average dumping margins up to 87.08 percent.

Notification Regarding Administrative Protective Orders

This notice also serves as the only reminder to parties subject to administrative protective order (APO) of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results in accordance with sections 751(c), 752(c), and 777(i)(1) of the Act, and 19 CFR 351.218 and 19 CFR 351.221(c)(5)(ii).

Dated: August 26, 2025.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely To Prevail

VII. Final Results of Sunset Review

VIII. Recommendation

[FR Doc. 2025-16655 Filed 8-28-25; 8:45 am]

BILLING CODE 3510-DS-P